DEPARTMENT OF ENERGY

[OE Docket No. EA-489]

Application To Export Electric Energy; North Star Electric Cooperative

AGENCY: Office of Electricity, Department of Energy.

ACTION: Notice of application.

SUMMARY: North Star Electric Cooperative (Applicant or North Star) has applied for authorization to transmit electric energy from the United States to Canada pursuant to the Federal Power Act.

DATES: Comments, protests, or motions to intervene must be submitted on or before August 23, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On June 6, 2021, North Star filed an application with DOE (Application or App.) to transmit electric energy from the United States to Canada for a term of five years. North Star states that it “is a cooperative corporation organized under Minnesota state law with its principal place of business [in] Baudette, MN.” App. at 4. North Star also describes itself as “a distribution cooperative member-owner of Minnkota Power Cooperative (`Minnkota'), a generation and transmission . . . cooperative that provides wholesale power requirements to North Star and its other member-owned cooperatives.” Id. at 1-2. North Star further represents that “because [it] is a cooperative, [its] customers are its member-owners.” Id. at 1.

North Star states that it “does not own any of its own power generation facilities itself, but instead purchases all of its power supply requirements (to serve its retail customers) from Minnkota.” App. at 2.

At the time of its application, North Star served residential customers in Canada “via two radial, low-voltage feeds that cross the U.S.-Canadian border and extend ten miles from Minnkota's International Falls Substation in northern Minnesota to the border and then into Canada.” App. at 2. It describes these customers as “in Canadian waters.” Id. North Star has applied for an export authorization “so that it may continue to serve its existing customers in Canada and to serve any future customers that may be tapped off the described radial lines,” including three new customers—also in Canadian waters—who have requested service. Id. at 3. North Star contends that its proposed exports “will not impair the sufficiency of electric supply within the United States” and will not “impede or tend to impede the coordination in the public interest of facilities subject to the jurisdiction of the Federal Energy Regulatory Commission.” Id.

The Applicant represents that the existing cross-border distribution facilities to be utilized by the Applicant have been in operation for at least 50 years. See App. at 7. North Star has exported power over these distribution facilities without holding the required export authorization under section 202(e) of the Federal Power Act, and “regrets that it did not obtain this required authorization earlier.” Id. at 3. The Applicant states that “in July 2018, after being approached by three prospective customers about extending retail service to new customer[s] in Canadian waters, North Star discovered it did not have the necessary authorization” to export power to customers in Canada. Id. at 2-3. North Star, via its power supplier, found that it did not hold a required Presidential Permit. See id. at 3. North Star has represented that it “was not aware of the requirement to have either a Presidential permit or export authorization.” Id. North Star has further represented that “[a]s soon as it became aware of [the] requirements, [it] contacted counsel to determine appropriate remedial actions, including filing the necessary applications and obtaining the required permit(s) and authorization.” Id. Accordingly, the Applicant has submitted this application for export and, concurrently, submitted an application for a Presidential Permit.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning North Star's application to export electric energy to Canada should be clearly marked with OE Docket No. EA-489. Additional copies are to be provided directly to Daniel E. Frank, 700 Sixth St. NW, Suite 700, Washington, DC 20001-3980, danielfrank@eversheds-sutherland.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at http://energy.gov/node/11845, or by emailing Matt Aronoff at matthew.aronoff@hq.doe.gov.

Signed in Washington, DC, on July 19, 2021.
Christopher Lawrence,
Management and Program Analyst, Energy Resilience Division, Office of Electricity.

[FR Doc. 2021-15596 Filed 7-21-21; 8:45 am]

BILLING CODE 6450-01-P